DEPARTMENT OF THE INTERIOR

Bureau of Land Management

[MT-929-1220-PA-002E]

Notice of Proposed Supplementary Rule Concerning Minors in Possession of Alcoholic Beverages on Public Lands Administered by the Bureau of Land Management (BLM); Montana, North Dakota, and South Dakota

AGENCY: Bureau of Land Management, DOT.

ACTION: Notice.

SUMMARY: Underage drinking is a growing problem on the public lands. Such activity poses a significant health and safety hazard to both underage violators and other users of the public lands and can result in the destruction of natural resources and property.

Therefore, the State Director is prohibiting the possession, or providing, of an intoxicating substance by, or to, a person under 21 years of age upon the public lands in Montana, North Dakota, and South Dakota. This action will allow BLM law enforcement officers to restrict the supply and possession and/or consumption of alcoholic beverages by minors, on BLM-administered public lands and recreation areas, in a manner consistent with Montana Code Annotated (MCA) 45-5-624, MCA 16-6-304, and MCA 16-6-305; ND Century Codes 5-01-01, 5-01-08, and 5-01-09; and SD Code 35-1-1, 35-9-1, 35-9-1.1, and 35-9-2. An intoxicating substance is defined in MCA 45-2-101 (31)(a).

This supplementary rule is issued under the authority of 43 CFR 8365.1-6.

Penalties

As prescribed under the Federal Land Policy and Management Act, 43 USC, Section 1733(a), and the Taylor Grazing Act, the violation is punishable by fines and/or imprisonment under 43 CFR 8360.0-7, with fines up to $1000 and/or 12 months in jail, or $500 as authorized under the Taylor Grazing Act (43 USC 315a).

DATES: To comply with the Administrative Procedures Act, if no significant opposition is received, this rule will go into effect May 17, 2000, and will remain in effect until rescinded or modified by the authorized officer.

FOR FURTHER INFORMATION CONTACT: Special Agent in Charge, Bureau of Land Management, Montana State Office, 5001 Southgate Drive, Billings, Montana 59101, (406) 896-5010.

Dated: March 23, 2000.
Larry E. Hamilton,
State Director.

[FR Doc. 00-9424 Filed 4-14-00; 8:45 am]

BILLING CODE 4310-DN-P